SMALL BUSINESS ADMINISTRATION

Military Reservist Economic Injury Disaster Loans Interest Rate for Second Quarter FY 2014.

In accordance with the Code of Federal Regulations 13—Business Credit and Assistance § 123.512, the following interest rate is effective for Military Reservist Economic Injury Disaster Loans approved on or after January 21, 2014.

Military Reservist Loan Program, 4.000%

Dated: January 27, 2014.
James E. Rivera,
Associate Administrator for Disaster Assistance.

[FR Doc. 2014-02122 Filed 1-31-14; 8:45 am]

BILLING CODE 8025-01-P